DEPARTMENT OF TRANSPORTATION

Federal Aviation Administration

[Docket No. FAA-2019-0154]

Agency Information Collection Activities: Proposed Collection: Public Comment Request

AGENCY: Federal Aviation Administration (FAA), Department of Transportation (DOT).

ACTION: 60-Day notice and request for comments.

SUMMARY: The Federal Aviation Administration is seeking approval from the Office of Management and Budget (OMB) for approval of a new information collection related to airspace authorization requests. As required by the Paperwork Reduction Act of 1995 (PRA), the purpose of this notice is to allow 60 days for public comment.

The FAA proposes collecting information pursuant to new requirements that limited recreational operations of unmanned aircraft must now apply for airspace authorizations in controlled airspace. The FAA will use the collected information to make determinations whether to authorize or deny the requested operation of UAS in controlled airspace. The proposed information collection is necessary to issue such authorizations or denials consistent with the FAA's mandate to ensure safe and efficient use of national airspace.

DATES: Written comments should be submitted by May 10, 2019.

ADDRESSES: You may submit comments [identified by Docket No. FAA-2019-0154] through one of the following methods:

• Federal eRulemaking Portal: http://www.regulations.gov. Follow the online instructions for submitting comments.

• Fax: 1-202-493-2251.

• Mail or Hand Delivery: Docket Management Facility, U.S. Department of Transportation, 1200 New Jersey Avenue SE, West Building, Room W12-140, Washington DC 20590, between 9 a.m. and 5 p.m., Monday through Friday, except on Federal holidays.

FOR FURTHER INFORMATION CONTACT: Casey Nair, FAA's UAS Low Altitude Authorization and Notification Capability (LAANC) Program Manager, tel (202) 267-0369 or via email at Casey.Nair@faa.gov.

SUPPLEMENTARY INFORMATION: Public Comments Invited. You are asked to comment on any aspect of this information collection, including (a) whether the proposed collection of information is necessary for the FAA's performance; (b) the accuracy of the estimated burden; (c) ways for the FAA to enhance the quality, utility, and clarity of the information collection; and (d) ways that the burden could be minimized without reducing the quality of the collected information.

Title: Airspace Authorizations in Controlled Airspace under 49 U.S.C. 44809(a)(5).

OMB Control Number: This is a new collection.

Form Number(s): There are no FAA forms associated with this collection.

Type of Review: Approval of a new information collection.

Background: Congress recently enacted the FAA Reauthorization Act of 2018 (the Act), which was signed into law by the President on October 5, 2018. Included within the Act is 49 U.S.C. 44809(a), which established limited recreational operations of unmanned aircraft. Limited recreational operations are those operations otherwise excepted from FAA certification and operating authority by adhering to all of the limitations listed in 49 U.S.C. 44809(a)(1) thru (8). Among the listed limitations that must be met, 49 U.S.C. 44809(a)(5) requires that these operations receive an authorization from the FAA prior to conducting any small UAS flight in Class B, Class C, Class D, or within the lateral boundaries of the surface area of Class E airspace designated for an airport. This is a new requirement. Previously, only persons operating under part 107 have been required to request these authorizations pursuant to OMB Control Number 2120-0768.

In order to process airspace authorization requests, the FAA requires the operator's name, the operator's contact information, and information related to the date, place, and time of the requested small UAS operation. This information is necessary for the FAA to meet its statutory mandate of maintaining a safe and efficient national airspace. See 49 U.S.C. 40103, 44701, and 44807. Similar to the existing process for part 107 operations, the FAA proposes to use LAANC and a web portal to process airspace authorization requests for limited recreational operations.

Affected Public: Limited recreational operators of small unmanned aircraft seeking to conduct flights within Class B, Class C, Class D, or within the lateral boundaries of the surface area of Class E airspace designated for an airport.

Frequency of Submission: The requested information will need to be provided each time a limited recreational operator respondent requests an airspace authorization to conduct a limited recreational operation of a small UAS in controlled airspace.

Number of Respondents: Between 2019-2021, the FAA estimates it will receive a total of 1,165,387 requests for airspace authorizations or 388,462 annually.

Total Annual Burden: Because the FAA has not previously collected airspace authorization requests from users under 49 U.S.C 44809(a)(5), the FAA used historical data related to airspace authorization requests submitted by part 107 operators. Under part 107, the FAA has received .318 requests per UAS registered and 85.2% of those requests were made through LAANC and 14.8% of the requests were made through the web portal. Applying these ratios to 49 U.S.C. 44809 respondents, the FAA estimates that the annual burden hours on respondents will be 55,224 hours (26,478 hours for 330, 970 LAANC respondents and 28,746 hours for 57,492 web portal respondents) for airspace authorizations. To determine this calculation, the FAA estimates that a respondent will require 5 minutes (or .08 hours) to complete the authorization request form using LAANC and 30 minutes (or .5 hours) using the web portal.

Under 44 U.S.C. 3507(a) and 5 CFR 1320.5(b), 1320.8(b)(3)(vi), FAA informs all interested parties that it may not conduct or sponsor, and a respondent is not required to respond to, a collection of information unless it displays a currently valid OMB control number.

Authority: 44 U.S.C. 3501-3520.

Issued in Washington, DC, on March 5, 2019.
Casey Nair,
UAS LAANC Program Manager.

[FR Doc. 2019-04368 Filed 3-8-19; 8:45 am]

BILLING CODE 4910-13-P